NUCLEAR REGULATORY COMMISSION

10 CFR Part 72

[NRC-2014-0058]

RIN-3150-AJ39

List of Approved Spent Fuel Storage Casks: NAC International MAGNASTOR® System; Certificate of Compliance No. 1031, Amendment No. 4

AGENCY: Nuclear Regulatory Commission.

ACTION: Direct final rule.

SUMMARY: The U.S. Nuclear Regulatory Commission (NRC) is amending its spent fuel storage regulations to add Amendment No. 4 to the Certificate of Compliance (CoC) No. 1031 for the NAC International MAGNASTOR® System. Amendment No. 4 changes a limiting condition for operation (LCO) in the technical specifications for transportable storage canister (TSC) vacuum drying and helium backfill times, and corrects a typographical error. The NRC approval of this Amendment would not authorize transportation.

DATES: The direct final rule is effective April 14, 2015, unless significant adverse comments are received by March 2, 2015. If the direct final rule is withdrawn as a result of such comments, timely notice of the withdrawal will be published in the Federal Register. Comments received after this date will be considered if it is practical to do so, but the NRC staff is able to ensure consideration only for comments received on or before this date.

ADDRESSES: Please refer to Docket ID NRC-2014-0058 when contacting the NRC about the availability of information for this direct final rule. You may access publicly-available information related to this direct final rule by any of the following methods:

• Federal Rulemaking Web site: Go to http://www.regulations.gov and search for Docket ID NRC-2014-0058. Address questions about NRC dockets to Carol Gallagher, telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced and in Section XIII, Availability of Documents.

• NRC's PDR: You may examine and purchase copies of public documents at the NRC's PDR, Room O-1F21, One White Flint North, 11555 Rockville Pike, Rockville, Maryland 20852.

FOR FURTHER INFORMATION CONTACT: Robert D. MacDougall, Office of Nuclear Material Safety and Safeguards, U.S. Nuclear Regulatory Commission, Washington, DC 20555-0001, telephone: 301-415-5175, email: Robert.MacDougall@nrc.gov.

SUPPLEMENTARY INFORMATION:

Table of Contents

I. Procedural Background

II. Background

III. Discussion of Changes

IV. Voluntary Consensus Standards

V. Agreement State Compatibility

VI. Plain Writing

VII. Environmental Assessment and Finding of No Significant Environmental Impact

VIII. Paperwork Reduction Act Statement

IX. Regulatory Analysis

X. Regulatory Flexibility Certification

XI. Backfitting and Issue Finality

XII. Congressional Review Act

XIII. Availability of Documents

I. Procedural Background

This direct final rule is limited to the changes contained in Amendment No. 4 to CoC No. 1031 and does not include other aspects of the MAGNASTOR® System design. Because the NRC considers this action noncontroversial and routine, the NRC is publishing this direct final rule concurrently with a proposed rule in the Rules and Regulations section of this issue of the Federal Register. Adequate protection of public health and safety continues to be ensured. This amendment to the rule will become effective on April 14, 2015. If the NRC receives significant adverse comments on this direct final rule by March 2, 2015, however, it will publish a document that withdraws the direct final rule and notifies the public that the NRC will address the comments received in response to these proposed revisions in a subsequent final rule. Absent significant modifications to the proposed revisions that would require republication, the NRC will not initiate a second comment period on this action.

A significant adverse comment is one in which the commenter explains why the rule would be inappropriate. This could include challenging the rule's underlying premise or approach, or explaining why the rule would be ineffective or unacceptable without a change. A comment is adverse and significant if:

(1) The comment opposes the rule and provides a reason sufficient to require a substantive response in a notice-and-comment process. For example, a substantive response is required when:

(a) The comment causes the NRC staff to reevaluate its position or conduct additional analysis;

(b) The comment raises an issue serious enough to warrant a substantive response to clarify or complete the record; or

(c) The comment raises a relevant issue that was not previously addressed or considered by the NRC staff.

(2) The comment proposes a change or an addition to the rule, and it is apparent that the rule would be ineffective or unacceptable without incorporation of the change or addition.

(3) The comment causes the NRC staff to make a change (other than editorial) to the rule, CoC, or technical specifications.

For detailed instructions on submitting comments, please see the companion proposed rule published in the Proposed Rule section of this issue of the Federal Register.

II. Background

Section 218(a) of the Nuclear Waste Policy Act (NWPA) of 1982, as amended, requires that “the Secretary [of the U.S. Department of Energy] shall establish a demonstration program, in cooperation with the private sector, for the dry storage of spent nuclear fuel at civilian nuclear power reactor sites, with the objective of establishing one or more technologies that the [U.S. Nuclear Regulatory] Commission may, by rule, approve for use at the sites of civilian nuclear power reactors without, to the maximum extent practicable, the need for additional site-specific approvals by the Commission.” Section 133 of the NWPA states, in part, that “[the Commission] shall, by rule, establish procedures for the licensing of any technology approved by the Commission under Section 219(a) [sic: 218(a)] for use at the site of any civilian nuclear power reactor.”

To implement this mandate, the Commission approved dry storage of spent nuclear fuel in NRC-approved casks under a general license by publishing a final rule in part 72 of Title 10 of the Code of Federal Regulations (10 CFR), “Licensing Requirements for the Independent Storage of Spent Nuclear Fuel, High-Level Radioactive Waste, and Reactor-Related Greater Than Class C Waste,” which added a new subpart K within 10 CFR part 72 entitled, “General License for Storage of Spent Fuel at Power Reactor Sites” (55 FR 29181; July 18, 1990). This rule also established a new subpart L within 10 CFR part 72 entitled, “Approval of Spent Fuel Storage Casks,” which contains procedures and criteria for obtaining NRC approval of spent fuel storage cask designs. The NRC subsequently issued a final rule (73 FR 70587; November 21, 2008) that approved the MAGNASTOR® System design and added it to the list of NRC-approved cask designs in 10 CFR 72.214, “List of approved spent fuel storage casks,” as CoC No.1031.

III. Discussion of Changes

By letter dated June 18, 2013 (ADAMS Accession No. ML13171A031), as supplemented September 6, 2013 (ADAMS Accession No. ML13261A278), September 19, 2013 (ADAMS Accession No. ML13268A051 proprietary information—not for public disclosure), June 13, 2014 (ADAMS Accession No. ML14170A063), June 17, 2014 (ADAMS Accession No. ML14170A022), and July 17, 2014 (ADAMS Accession No. ML14199A501), NAC International (NAC) submitted an application for Amendment No. 4 of CoC No. 1031. The amendment makes changes to LCO 3.1.1 in Technical Specification Appendix A (ADAMS Accession No. ML14272A479). Specifically, in the first table in section 1 of LCO 3.1.1:

• The table title is revised from “PWR Drying with 8 Hours TSC Transfer” to “PWR TSC Transfer with Reduced Helium Backfill Time;”

• In row 1, 4th column, the cask transfer time is changed from 8 to 600 hours;

• In row 2, 3rd column, the helium backfill time is changed from 0 to 7 hours; and

• In row 2, 4th column, the cask transfer time is changed from 8 to 70.5 hours.

Amendment No. 4 also corrects a typographical error in two required minimum actual areal boron densities in Technical Specification Appendix A, Section 4.1.1(a). In addition, Technical Specification Appendix B (ADAMS Accession No. ML14272A484), Table B2-5, provides new minimum additional decay times required before loading when the spent fuel contains nonfuel hardware. The revised technical specifications are identified in the preliminary Safety Evaluation Report (SER) (ADAMS Accession No. ML14272A487).

As documented in the preliminary SER, the NRC staff performed a detailed safety evaluation of the proposed CoC amendment request. There are no significant changes to cask design requirements in the proposed CoC amendment. Considering the specific design requirements for each accident condition, the design of the cask would prevent loss of containment, shielding, and criticality control. If there is no loss of containment, shielding, or criticality control, the environmental impacts would be insignificant. This amendment does not reflect a significant change in design or fabrication of the cask. In addition, any resulting occupational exposure or offsite dose rates from the implementation of Amendment No. 4 would remain well within the applicable limits of 10 CFR part 20, “Standards for Protection Against Radiation.” Therefore, the proposed CoC changes will not result in any radiological or non-radiological environmental impacts that significantly differ from the environmental impacts evaluated in the environmental assessment supporting the July 18, 1990, final rule (55 FR 29181) that amended 10 CFR part 72 to provide for the storage of spent fuel under a general license in cask designs approved by the NRC. There will be no significant change in the types or amounts of any effluent released, no significant increase in individual or cumulative radiation exposure, and no significant increase in the potential for or consequences of radiological accidents from those analyzed in that environmental assessment.

This direct final rule revises the MAGNASTOR® System listing in 10 CFR 72.214 by adding Amendment No. 4 to CoC No. 1031. The amendment consists of the changes previously described, as set forth in the revised CoC and technical specifications. The revised technical specifications are identified in the preliminary SER.

The amended MAGNASTOR® System design, when used under the conditions specified in the CoC, the technical specifications, and the NRC's regulations, will meet the requirements of 10 CFR part 72; therefore, adequate protection of public health and safety will continue to be ensured. When this direct final rule becomes effective, persons who hold a general license under 10 CFR 72.210, “General license issued,” may load spent nuclear fuel into MAGNASTOR® Storage Systems that meet the criteria of Amendment No. 4 to CoC No. 1031 under 10 CFR 72.212, “Conditions of general license issued under § 72.212.”

IV. Voluntary Consensus Standards

The National Technology Transfer and Advancement Act of 1995 (Pub. L. 104-113) requires that Federal agencies use technical standards developed or adopted by voluntary consensus standards bodies, unless the use of such a standard is inconsistent with applicable law or otherwise impractical. In this direct final rule, the NRC will revise the MAGNASTOR® System design listed in 10 CFR 72.214. This action does not constitute the establishment of a standard subject to Public Law 104-113.

V. Agreement State Compatibility

Under the “Policy Statement on Adequacy and Compatibility of Agreement State Programs” approved by the Commission on June 30, 1997, and published in the Federal Register on September 3, 1997 (62 FR 46517), this direct final rule is classified as Compatibility Category “NRC.” Compatibility is not required for Category “NRC” regulations. The NRC program elements in this category are those that relate directly to areas of regulation reserved to the NRC by the Atomic Energy Act of 1954, as amended, or the provisions of 10 CFR. Although an Agreement State may not adopt program elements reserved to the NRC, it may wish to inform its licensees of certain requirements via a mechanism that is consistent with the particular State's administrative procedure laws, but does not confer regulatory authority on the State.

VI. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VII. Environmental Assessment and Finding of No Significant Environmental Impact: Availability

A. The Action

The action is to amend 10 CFR 72.214 to revise the NAC International, Inc. MAGNASTOR® System listing within the “List of Approved Spent Fuel Storage Casks” to include Amendment No. 4 to CoC No. 1031. Under the National Environmental Policy Act of 1969, as amended, and the NRC's regulations in subpart A of 10 CFR part 51, “Environmental Protection Regulations for Domestic Licensing and Related Regulatory Functions,” the NRC has determined that this rule, if adopted, would not be a major Federal action significantly affecting the quality of the human environment. An environmental impact statement is therefore not required. The NRC has made a finding of no significant impact on the basis of this environmental assessment.

B. The Need for the Action

This direct final rule amends the CoC for the NAC International, Inc. MAGNASTOR® System design within the list of approved spent fuel storage casks that power reactor licensees can use to store spent fuel at reactor sites under a general license. Specifically, Amendment No. 4 changes the LCOs in the technical specifications for canister vacuum drying and helium backfill times. Amendment No. 4 also corrects a typographical error in two required minimum actual areal boron densities in Technical Specification Appendix A, Section 4.1.1(a). In addition, Technical Specification Appendix B, Table B2-5, provides new minimum additional decay times required before loading when the spent fuel contains nonfuel hardware. The revised technical specifications are identified in the preliminary SER.

C. Environmental Impacts of the Action

On July 18,1990 (55 FR 29181), the NRC issued an amendment to 10 CFR part 72 to provide for the storage of spent fuel under a general license in cask designs approved by the NRC. The potential environmental impact of using NRC-approved storage casks was initially analyzed in the environmental assessment for the 1990 final rule. The environmental assessment for this Amendment No. 4 tiers off of the environmental assessment for the July 18, 1990, final rule.

The MAGNASTOR® System is designed to mitigate the effects of design basis accidents that could occur during storage. Design basis accidents account for human-induced events and the most severe natural phenomena reported for the site and surrounding area. Postulated accidents analyzed for an Independent Spent Fuel Storage Installation, the type of facility at which a holder of a power reactor operating license would store spent fuel in casks in accordance with 10 CFR part 72, include tornado winds and tornado-generated missiles, a design basis earthquake, a design basis flood, an accidental cask drop, lightning effects, fires, explosions, and other incidents.

Considering the specific design requirements for each accident condition, the design of the cask would prevent loss of containment, shielding, and criticality control. If there is no loss of confinement, shielding, or criticality control, the environmental impacts would be insignificant.

This amendment does not reflect a significant change in design or fabrication of the cask. There are no significant changes to cask design requirements in the proposed CoC amendment. In addition, because there are no significant process changes, any resulting occupational exposures or offsite dose rates from the implementation of Amendment No. 4 would remain well within 10 CFR part 20 radiation safety limits. Therefore, the proposed CoC changes will not result in either radiological or non-radiological environmental impacts that differ significantly from the environmental impacts evaluated in the environmental assessment supporting the July 18, 1990, final rule. There will be no significant change in the types or amounts of any effluent released, no significant increase in individual or cumulative radiation exposures, and no significant increase in the potential for or consequences of radiological accidents. The staff documented these safety findings in the preliminary SER for this amendment.

D. Alternative to the Action

The alternative to this action is to deny approval of Amendment No. 4 and end the direct final rule. Consequently, any 10 CFR part 72 general licensee that seeks to load spent nuclear fuel into MAGNASTOR® System casks in accordance with the changes described in proposed Amendment No. 4 would have to request an exemption from the requirements of 10 CFR 72.212 and 72.214. Under this alternative, interested licensees would have to prepare, and the NRC would have to review, a separate exemption request, thereby increasing the administrative burden on the NRC and the cost to each licensee. Because licensees could still receive approval for use of this cask through a different and more burdensome administrative process, environmental impacts of the proposed action would be the same as or less than the no-action alternative.

E. Alternative Use of Resources

Approval of Amendment No. 4 to CoC No. 1031 would result in no significant irreversible commitments of resources.

F. Agencies and Persons Contacted

No agencies or persons outside the NRC were contacted in connection with the preparation of this environmental assessment.

G. Finding of No Significant Impact

The environmental impacts of the action have been reviewed under the requirements of 10 CFR part 51. Based on the foregoing environmental assessment, the NRC concludes that this direct final rule entitled, “List of Approved Spent Fuel Storage Casks: NAC International MAGNASTOR® System; Certificate of Compliance No. 1031, Amendment No. 4,” will not have a significant effect on the quality of the human environment. The NRC has therefore determined that an environmental impact statement for this direct final rule is not necessary.

VIII. Paperwork Reduction Act Statement

This direct final rule does not contain any information collection requirements, and is therefore not subject to the Paperwork Reduction Act of 1995 (44 U.S.C. 3501 et seq.). Existing requirements were approved by the Office of Management and Budget (OMB), Approval Number 3150-0132.

Public Protection Notification

The NRC may not conduct or sponsor, and a person is not required to respond to, a request for information or an information collection requirement, unless the requesting document displays a currently valid OMB control number.

IX. Regulatory Analysis

On July 18, 1990 (55 FR 29181), the NRC issued an amendment to 10 CFR part 72 to provide for the storage of spent nuclear fuel under a general license in casks with designs approved by the NRC. Any nuclear power reactor licensee can use casks with NRC-approved designs to store spent nuclear fuel if the licensee notifies the NRC in advance, the spent fuel is stored under the conditions specified in the cask's CoC, and the conditions of the general license are met. A list of NRC-approved cask designs is codified in 10 CFR 72.214. The NRC issued a final rule (73 FR 70687; November 21, 2008) that approved the MAGNASTOR® System design and added it to the list of NRC-approved cask designs in 10 CFR 72.214 “List of approved spent fuel storage casks,” as CoC No. 1031.

On June 18, 2013, and as supplemented on September 6, 2013, June 13, 2014, June 17, 2014, and July 17, 2014, NAC International, Inc. submitted an application to amend the MAGNASTOR® Cask System as described in Section III, “Discussion of Changes,” of this document.

The alternative to this action is to withhold approval of Amendment No. 4 and to require any 10 CFR part 72 general licensee seeking to load spent nuclear fuel into the MAGNASTOR® System cask under the changes described in Amendment No. 4 to request an exemption from the requirements of 10 CFR 72.212 and 72.214. Under this alternative, each interested 10 CFR part 72 licensee would have to prepare, and the NRC would have to review, a separate exemption request, thereby increasing the administrative burden on the NRC and the costs to each interested licensee.

Issuance of this direct final rule is consistent with previous NRC actions. Further, as documented in the preliminary SER and the environmental assessment, the direct final rule will ensure protection of public health and safety, and have no significant impact on the environment. This direct final rule has no significant identifiable impact or benefit on other Government agencies. Based on this regulatory analysis, the NRC concludes that the requirements of the direct final rule are commensurate with the NRC's responsibilities for public health and safety and the common defense and security. No other available alternative is believed to be as satisfactory, and therefore, this action is recommended.

X. Regulatory Flexibility Certification

Under the Regulatory Flexibility Act of 1980 (5 U.S.C. 605(b)), the NRC certifies that this direct final rule will not, if issued, have a significant economic impact on a substantial number of small entities. This direct final rule affects only nuclear power plant licensees and NAC International, Inc. These entities do not fall within the definition of small entities set forth in the Regulatory Flexibility Act or the size standards established by the NRC (10 CFR 2.810).

XI. Backfitting and Issue Finality

The NRC has determined that the backfit rule (10 CFR 72.62) does not apply to this direct final rule. Therefore, a backfit analysis is not required. This direct final rule revises the CoC No. 1031 for the NAC International MAGNASTOR® System, as currently listed in 10 CFR 72.214, “List of Approved Spent Fuel Storage Casks.” The revision consists of Amendment No. 4, which changes the title and specified numerical values of LCO 3.1.1, Section 1, first table entitled “PWR Drying with 8 Hours TSC Transfer.” Amendment No. 4 also corrects a typographical error in two required minimum actual areal boron densities in Technical Specification Appendix A, Section 4.1.1(a). In addition, Technical Specification Appendix B, Table B2-5, provides new minimum additional decay times required before loading when the spent fuel contains nonfuel hardware. The revised technical specifications are identified in the preliminary SER.

Amendment No. 4 to CoC No. 1031 for the MAGNASTOR® System was initiated by NAC International and was not submitted in response to new NRC requirements, or an NRC request for amendment. Amendment No. 4 applies only to new casks fabricated and used under Amendment No. 4. These changes do not affect existing users of the NAC International MAGNASTOR® System, and the current Amendment No. 3 continues to be effective for existing users. While current CoC users may comply with the new requirements in Amendment No. 4, this would be a voluntary decision on their part. For these reasons, Amendment No. 4 to CoC No. 1031 does not constitute backfitting under 10 CFR 72.62 or 10 CFR 50.109(a)(1), or otherwise represent an inconsistency with the issue finality provisions applicable to combined licenses in 10 CFR part 52. Accordingly, no backfit analysis or additional documentation addressing the issue finality criteria in 10 CFR part 52 has been prepared by the staff.

XII. Congressional Review Act

The Office of Management and Budget has not found this to be a major rule as defined in the Congressional Review Act.

XIII. Availability of Documents

The documents referenced in this direct final rule are available in the NRC's Agencywide Documents Access and Management System (ADAMS) using the Main Library (ML) accession numbers for the documents listed in the table below:

Table 1
Document title | ADAMS Accession No.
Proposed CoC (for Certificate of Compliance #1031) | ML14272A472
Technical Specifications Appendix A | ML14272A479
Technical Specifications Appendix B | ML14272A484
Preliminary Safety Evaluation Report (SER) | ML14272A487
“Submission of a Request to Amend the NRC Certificate of Compliance No. 1031 for the NAC International MAGNASTOR Cask System,” June 18, 2013 | ML13171A031
“Submission of NAC's Response to the U.S. Nuclear Regulatory Commission's Request for Supplemental Information for NAC's Request to Amend the Certificate of Compliance No. 1031 for the NAC International MAGNASTOR Cask System,” September 6, 2013 | ML13261A278
“Final Safety Analysis Report Amendment 4 Application Supplement, Rev. 13C,” September 19, 2013. (Proprietary information—not for public disclosure). | ML13268A051
“Submission of a Supplement to NAC's Request to Amend the U.S. Nuclear Regulatory Commission Certificate of Compliance No. 1031 for the NAC International MAGNASTOR Cask System,” June 13, 2014 | ML14170A063
“Submission of a Supplement to NAC's Request to Amend the U.S. Nuclear Regulatory Commission Certificate of Compliance No. 1031 for the NAC International MAGNASTOR Cask System,” June 17, 2014 | ML14170A022
“Submission of a Supplement to NAC's Request to Amend the U.S. Nuclear Regulatory Commission Certificate of Compliance No. 1031 for the NAC International MAGNASTOR Cask System,” July 17, 2014 | ML14199A501

List of Subjects in 10 CFR Part 72

Administrative practice and procedure, Criminal penalties, Manpower training programs, Nuclear materials, Occupational safety and health, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendments to 10 CFR part 72.

PART 72—LICENSING REQUIREMENTS FOR THE INDEPENDENT STORAGE OF SPENT NUCLEAR FUEL, HIGH-LEVEL RADIOACTIVE WASTE AND REACTOR-RELATED GREATER THAN CLASS C WASTE

1. The authority citation for part 72 continues to read as follows:

Authority: Atomic Energy Act secs. 51, 53, 57, 62, 63, 65, 69, 81, 161, 182, 183, 184, 186, 187, 189, 223, 234, 274 (42 U.S.C. 2071, 2073, 2077, 2092, 2093, 2095, 2099, 2111, 2201, 2232, 2233, 2234, 2236, 2237, 2239, 2273, 2282, 2021); Energy Reorganization Act secs. 201, 202, 206, 211 (42 U.S.C. 5841, 5842, 5846, 5851); National Environmental Policy Act sec. 102 (42 U.S.C. 4332); Nuclear Waste Policy Act secs. 131, 132, 133, 135, 137, 141, 148 (42 U.S.C. 10151, 10152, 10153, 10155, 10157, 10161, 10168); Government Paperwork Elimination Act sec. 1704 (44 U.S.C. 3504 note); Energy Policy Act of 2005, Pub. L. 109-58, 119 Stat. 549 (2005).

Section 72.44(g) also issued under Nuclear Waste Policy Act secs. 142(b) and 148(c), (d) (42 U.S.C. 10162(b), 10168(c), (d)). Section 72.46 also issued under Atomic Energy Act sec. 189 (42 U.S.C. 2239); Nuclear Waste Policy Act sec. 134 (42 U.S.C. 10154). Section 72.96(d) also issued under Nuclear Waste Policy Act sec. 145(g) (42 U.S.C. 10165(g)). Subpart J also issued under Nuclear Waste Policy Act secs. 117(a), 141(h) (42 U.S.C. 10137(a), 10161(h)). Subpart K also issued under Nuclear Waste Policy Act sec. 218(a) (42 U.S.C. 10198).

2. In § 72.214, Certificate of Compliance No. 1031 is revised to read as follows:

§ 72.214 List of approved spent fuel storage casks.

* * * * *

Certificate Number: 1031.

Initial Certificate Effective Date: February 4, 2009.

Amendment Number 1 Effective Date: August 30, 2010.

Amendment Number 2 Effective Date: January 30, 2012.

Amendment Number 3 Effective date: July 25, 2013.

Amendment Number 4 Effective Date: April 14, 2015.

SAR Submitted by: NAC International, Inc.

SAR Title: Final Safety Analysis Report for the MAGNASTOR® System.

Docket Number: 72-1031.

Certificate Expiration Date: February 4, 2029. Model Number: MAGNASTOR®.

Dated at Rockville, Maryland, this 15th day of January 2015.
For the Nuclear Regulatory Commission.
Mark A. Satorius,
Executive Director for Operations.

[FR Doc. 2015-01693 Filed 1-28-15; 8:45 am]

BILLING CODE 7590-01-P